DEPARTMENT OF COMMERCE

International Trade Administration

[A-201-869]

Fresh Winter Strawberries From Mexico: Initiation of Less-Than-Fair-Value Investigation

AGENCY: Enforcement and Compliance, International Trade Administration, Department of Commerce.

DATES: Applicable February 9, 2026.

FOR FURTHER INFORMATION CONTACT: Anjali Mehindiratta, Office III, AD/CVD Operations, Enforcement and Compliance, International Trade Administration, U.S. Department of Commerce, 1401 Constitution Avenue NW, Washington, DC 20230; telephone: (202) 482-9127.

SUPPLEMENTARY INFORMATION:

The Petition

On December 31, 2025, the U.S. Department of Commerce (Commerce) received an antidumping duty (AD) petition concerning imports of fresh winter strawberries (winter strawberries) from Mexico filed in proper form on behalf of the Strawberry Growers for Free Trade (the petitioner).¹ On January 20, 2026, Commerce extended the initiation deadline by 20 days to poll the domestic industry in accordance with subsections 732(c)(1)(B) and (4)(D) of the Tariff Act of 1930, as amended (the Act), because “the Petition has not established that the domestic producers or workers accounting for more than 50 percent of total production support the Petition. . . .” ²

¹ See Petitioner's Letter, “Petition for the Imposition of Antidumping Duties,” dated December 31, 2025 (Petition). Strawberry Growers for Free Trade is an ad hoc association, the majority of whose members consist of a trade association whose members produce the domestic like product and domestic producers of fresh winter strawberries. The members of the Strawberry Growers for Fair Trade are: Astin Strawberry Exchange, BBI Produce, Inc., dba Berry Boss, Florida Department of Agriculture and Consumer Services, Grimes Produce Company, Mathis Farms, Simmons Farms, Inc., Sizemore Farms, Inc., Sweet Life Farms, Ultra Farms, and Florida Strawberries Association.

² See Notice of Extension of the Deadline for Determining the Adequacy of the Antidumping Duty Petition: Fresh Winter Strawberries from Mexico, 91 FR 2910 (January 23, 2026) (Initiation Extension Notice).

Between January 5 and February 4, 2026, Commerce requested supplemental information pertaining to certain aspects of the Petition in supplemental questionnaires.³ Between January 9 and February 6, 2026, the petitioner filed timely responses to these requests for additional information.⁴

³ See Commerce's Letters, “Supplemental Questions,” dated January 5, 2026 (First General Issues Supplemental Questionnaire); see also “Supplemental Questions,” dated January 6, 2026 (First Mexico AD Supplemental Questionnaire); “Second Supplemental Questions,” dated January 26, 2026 (Second General Issues and Mexico AD Questionnaire); “Third Supplemental Questions,” dated February 4, 2026 (Third Mexico AD Supplemental Questionnaire).

⁴ See Petitioner's Letters, “Response to Supplemental Questions Regarding Volume II of the Petition,” dated January 9, 2026 (First Mexico AD Supplement); “Response to Supplemental Questions Regarding Volume I of the Petition,” dated January 12, 2026 (First General Issues Supplement); “Response to Second Supplemental Questions Regarding Volumes I and II of the Petition,” dated January 27, 2026 (Second General Issues and Mexico AD Supplement); and “Response to Third Supplemental Questions Regarding Volume II of the Petition,” dated February 6, 2026 (Third Mexico AD Supplement).

In accordance with section 732(b) of the Act, the petitioner alleges that imports of winter strawberries from Mexico are being, or are likely to be, sold in the United States at less than fair value (LTFV) within the meaning of section 731 of the Act, and that imports of such products are materially injuring, or threatening material injury to, the winter strawberries industry in the United States. Consistent with section 732(b)(1) of the Act, the Petition was accompanied by information reasonably available to the petitioner supporting its allegations.

Commerce finds that the petitioner filed the Petition on behalf of the domestic industry, because the petitioner is an interested party, as defined in section 771(9)(F) of the Act.⁵ Commerce also finds that the petitioner demonstrated sufficient industry support for the initiation of the requested LTFV investigation.⁶

⁵ Strawberry Growers for Fair Trade is an interested party as defined in section 771(9)(F) of the Act. The majority of the members of the Strawberry Growers for Fair Trade are interested parties as defined in sections 771(9)(C) and (E) of the Act.

⁶ See section on “Determination of Industry Support for the Petition,” infra.

Period of Investigation (POI)

The petitioner has proposed November 1, 2024 to March 31, 2025 as the POI, consistent with the scope definition of winter strawberries as those strawberries harvested or entered during the period of November 1 through March 31.⁷

⁷ See Petition at Volume II (page 5).

Scope of the Investigation

The product covered by this investigation is winter strawberries from Mexico. For a full description of the scope of this investigation, see the appendix to this notice.

Comments on the Scope of the Investigation

On January 6, 2026, Commerce requested information and clarification from the petitioners regarding the proposed scope to ensure that the scope language in the Petition is an accurate reflection of the products for which the domestic industry is seeking relief.⁸ On January 12, 2026, the petitioners provided clarification regarding the scope.⁹ The description of merchandise covered by this investigation, as described in the appendix to this notice, reflects these clarifications.

⁸ See First General Issues Supplemental Questionnaire.

⁹ See First General Issues Supplement at 4-7.

As discussed in the Preamble to Commerce's regulations, we are setting aside a period for interested parties to raise issues regarding product coverage (i.e., scope).¹⁰ Commerce will consider all scope comments received from interested parties and, if necessary, will consult with interested parties prior to the issuance of the preliminary determination. If scope comments include factual information, all such factual information should be limited to public information.¹¹

¹⁰ See Antidumping Duties; Countervailing Duties, Final Rule, 62 FR 27296, 27323 (May 19, 1997) (Preamble); see also 19 CFR 351.312.

¹¹ See 19 CFR 351.102(b)(21) (defining “factual information”).

Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on March 2, 2026, which is the next business day after 20 calendar days from the signature date of this notice.¹² Any rebuttal comments, which may include factual information, and should also be limited to public information, must be filed by 5:00 p.m. ET on March 12, 2026, which is 10 calendar days from the initial comment deadline.

¹² The deadline for initial scope comments falls on March 1, 2026, which is a Sunday. Commerce's practice dictates that where a deadline falls on a weekend or federal holiday, the appropriate deadline is the next business day (in this instance, March 2, 2026). See 19 CFR 351.303(b)(1) (“For both electronically filed and manually filed documents, if the applicable due date falls on a non-business day, the Secretary will accept documents that are filed on the next business day.”).

Commerce requests that any factual information that parties consider relevant to the scope of this investigation be submitted during that period. However, if a party subsequently finds that additional factual information pertaining to the scope of the investigation may be relevant, the party must contact Commerce and request permission to submit the additional information.

Filing Requirements

All submissions to Commerce must be filed electronically via Enforcement and Compliance's Antidumping Duty and Countervailing Duty Centralized Electronic Service System (ACCESS), unless an exception applies.¹³ An electronically filed document must be received successfully in its entirety by the time and date it is due.

¹³ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of winter strawberries to be reported in response to Commerce's AD questionnaires. This information will be used to identify the key physical characteristics of the subject merchandise in order to report the relevant cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe winter strawberries, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on March 2, 2026, which is the next business day after 20 calendar days from the signature date of this notice.¹⁴ Any rebuttal comments must be filed by 5:00 p.m. ET on March 12, 2026, which is 10 calendar days from the initial comment deadline. All comments and submissions to Commerce must be filed electronically using ACCESS, as explained above, on the record of the LTFV investigation.

¹⁴ The deadline for initial product characteristics comments falls on March 1, 2026, which is a Sunday. Commerce's practice dictates that where a deadline falls on a weekend or federal holiday, the appropriate deadline is the next business day (in this instance, March 2, 2026). See 19 CFR 351.303(b)(1) (“For both electronically filed and manually filed documents, if the applicable due date falls on a non-business day, the Secretary will accept documents that are filed on the next business day.”).

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁵ they do so for different purposes and pursuant to a separate and distinct authority. In addition, Commerce's determination is subject to limitations of time and information. Although this may result in different definitions of the like product, such differences do not render the decision of either agency contrary to law.¹⁶

¹⁵ See section 771(10) of the Act.

¹⁶ See USEC, Inc. v. United States, 132 F. Supp 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁷ Based on our analysis of the information submitted on the record, we have determined that winter strawberries, as defined in the scope, constitute a single domestic like product, and we have analyzed industry support in terms of that domestic like product.¹⁸

¹⁷ For a discussion of the domestic like product analysis as applied to this case and information regarding industry support, see Checklist, “Antidumping Duty Investigation Initiation Checklist: Fresh Winter Strawberries from Mexico,” dated concurrently with, and hereby adopted by, this notice (Mexico AD Initiation Checklist), at Attachment II, Analysis of Industry Support for the Antidumping Duty Petition Covering Fresh Winter Strawberries from Mexico (Attachment II). This checklist is on file electronically via ACCESS.

¹⁸ For further discussion, see Attachment II of the Mexico AD Initiation Checklist.

The petitioner alleges that there is a regional industry producing the domestic like product and included data for both factors required by section 771(4)(C) of the Act: (1) the producers within such market sell all or almost all of their production of the like product in question in the regional market; and (2) the demand in the regional market is not supplied, to any substantial degree, by producers located elsewhere in the United States.¹⁹ Moreover, the petitioner alleges that there is a concentration of dumped imports from Mexico in the region, pursuant to section 771(4)(C) of the Act and consistent with the SAA.²⁰ We have examined the adequacy and accuracy of the information supporting the regional industry claim to determine whether the petitioner provided reasonably available evidence sufficient to justify initiation based on a regional industry analysis. Based on the information on the record, we have determined that the petitioner has satisfied the statutory requirements for establishing a regional industry for initiation purposes.²¹ However, because the petitioner contends that Commerce should initiate on both a regional basis and a national basis,²² we have analyzed industry support on a regional basis and a national basis, as discussed further below.

¹⁹ See Petition at Volume I (pages 2-3 and 11-12). The region defined by the petitioner consists of the following states: Alabama, Connecticut, Delaware, Florida, Georgia, Illinois, Indiana, Kentucky, Louisiana, Maine, Maryland, Massachusetts, Michigan, Mississippi, New Hampshire, New Jersey, New York, North Carolina, Ohio, Pennsylvania, Rhode Island, South Carolina, Tennessee, Texas, Vermont, Virginia, West Virginia, and Wisconsin.

²⁰ See Statement of Administrative Action Accompanying the Uruguay Round Agreements Act, H.R. Doc. 103-316, Vol. 1 (1994) (SAA), at 860.

²¹ For further discussion, see Attachment II of the Mexico AD Initiation Checklist.

²² See First General Issues Supplement at 11.

Pursuant to section 732(c)(4)(C) of the Act, if the petitioner alleges there is a regional industry, Commerce, on the basis of production in the region, shall determine whether the petition has been filed by or on behalf of the domestic industry by applying the requirements enunciated in section 732(c)(4)(A) of the Act. This section of the Act provides that Commerce's industry support determination, which is to be made before the initiation of the investigation, be based on whether a minimum percentage of the relevant regional industry supports the petition.²³ Pursuant to sections 732(c)(4)(A) and 732(c)(4)(C) of the Act, a petition meets this requirement if the domestic producers or workers who support the petition account for: (1) at least 25 percent of the total production of the domestic like product in the region; and (2) more than 50 percent of the production of the domestic like product in the region produced by that portion of the industry expressing support for, or opposition to, the petition.

²³ See SAA at 863.

On January 20, 2026, Commerce extended the initiation deadline by 20 days to poll the industry in accordance with subsections 732(c)(1)(B) and (4)(D) of the Act, because “the Petition has not established that the domestic producers or workers accounting for more than 50 percent of total production support the Petition. . . .” ²⁴ On January 21, 2026, we issued polling questionnaires to potential U.S. producers identified by interested parties and by Commerce, regardless of whether the company was located within or outside the region defined by the petitioner.²⁵ We requested that the companies complete the polling questionnaire and certify their responses by the due date specified in the cover letter to the questionnaire.²⁶ We received comments on industry support and the questionnaire responses.²⁷

²⁴ See Initiation Extension Notice.

²⁵ See Commerce's Letter, “Polling Questionnaire,” dated January 21, 2026.

²⁶ Id. For information and analysis of the responses received, see Attachment II of the Mexico AD Initiation Checklist. The polling questionnaire and questionnaire responses are on file electronically via ACCESS.

²⁷ For a discussion of parties' comments, see Attachment II of the Mexico AD Initiation Checklist.

Our analysis of the data we received in the polling questionnaire responses indicates that the domestic producers and workers who support the Petition account for at least 25 percent of the total production of the domestic like product and more than 50 percent of the production of the domestic like product produced by that portion of the industry expressing support for, or opposition to, the Petition under both a regional analysis and on a national basis.²⁸ Accordingly, Commerce determines that the Petition was filed on behalf of the domestic industry within the meaning of section 732(b)(1) of the Act, regardless of whether we define the domestic industry producing the domestic like product as a regional industry or a national industry.²⁹

²⁸ For further discussion, see Attachment II of the Mexico AD Initiation Checklist.

²⁹ Id.

Allegations and Evidence of Material Injury and Causation

The petitioner alleges that the regional U.S. industry producing the domestic like product is being materially injured, or is threatened with material injury, by reason of the imports of the subject merchandise sold at LTFV. In addition, the petitioner alleges that subject imports exceed the negligibility threshold provided for under section 771(24)(A) of the Act, as well as under section 771(24)(D) of the Act, which pertains to negligibility analysis for a regional industry.³⁰

³⁰ For further information regarding negligibility and the injury allegation, see Mexico AD Initiation Checklist at Attachment III, Analysis of Allegations and Evidence of Material Injury and Causation for the Antidumping Duty Petition Covering Fresh Winter Strawberries from Mexico.

The petitioner contends that the industry's injured condition is illustrated by a significant increase in the volume of subject imports; reduced market share; underselling and price suppression; lost sales and revenues; and negative impact on financial performance.³¹ We assessed the allegations and supporting evidence regarding material injury, threat of material injury, causation, as well as negligibility, and we have determined that these allegations are properly supported by adequate evidence, and meet the statutory requirements for initiation.³²

³¹ Id.

³² Id.

Allegations of Sales at LTFV

The following is a description of the allegations of sales at LTFV upon which Commerce based its decision to initiate an LTFV investigation of imports of winter strawberries from Mexico. The sources of data for the deductions and adjustments relating to U.S. price and normal value (NV) are discussed in greater detail in the Mexico AD Initiation Checklist.

U.S. Price

The petitioner calculated export price (EP) based on terminal market prices for winter strawberries produced in Mexico and sold or offered for sale in the U.S. market and monthly average unit values (AUVs) for obtained from publicly available official import statistics for U.S. imports winter strawberries from Mexico.³³ The petitioner made certain adjustments to U.S. price to calculate net ex-factory U.S. prices, where applicable.³⁴ However, for purposes of this initiation, we have based EP on the POI AUV calculated by Commerce.³⁵

³³ See Mexico AD Initiation Checklist.

³⁴ Id.

³⁵ For further discussion, see Mexico AD Initiation Checklist.

Normal Value ³⁶

³⁶ In accordance with section 773(b)(2) of the Act, for this investigation, Commerce will request information necessary to calculate the constructed value (CV) and COP to determine whether there are reasonable grounds to believe or suspect that sales of the foreign like product have been made at prices that represent less than the COP of the product.

The petitioner calculated NV on home market pricing information they obtained for winter strawberries produced in and sold, or offered for sale, in Mexico during the POI.³⁷ The petitioner made certain adjustments to the home market prices to calculate net home market prices, where applicable.³⁸ For purposes of this initiation, we have relied on the POI average “Frequent price” reported in the home market pricing provided by the petitioner.³⁹

³⁷ See Mexico AD Initiation Checklist.

³⁸ Id.

³⁹ Id.

Fair Value Comparisons

Based on the data provided by the petitioner, there is reason to believe that imports of winter strawberries from Mexico are being, or are likely to be, sold in the United States at LTFV. Based on comparisons of EP or NV in accordance with sections 772 and 773 of the Act, using Commerce's methodology for EP and NV outlined above, the estimated dumping margin for winter strawberries from Mexico covered by this initiation is 18.32 percent.⁴⁰

⁴⁰ Id.

Initiation of LTFV Investigation

Based upon the examination of the Petition and supplemental responses, we find that they meet the requirements of section 732 of the Act. Therefore, we are initiating an LTFV investigation to determine whether imports of winter strawberries from Mexico are being, or are likely to be, sold in the United States at LTFV. In accordance with section 733(b)(1)(A) of the Act and 19 CFR 351.205(b)(1), unless postponed, we will make our preliminary determination no later than 140 days after the date of this initiation.

Respondent Selection

In the Petition, the petitioner identified 60 companies in Mexico as producers and/or exporters of winter strawberries.⁴¹ Following standard practice in LTFV investigations involving market economy countries, in the event Commerce determines that the number of companies is large, and it cannot individually examine each company based upon Commerce's resources, where appropriate, Commerce intends to select mandatory respondents based on U.S. Customs and Border Protection (CBP) data for imports under the appropriate Harmonized Tariff Schedule of the United States (HTSUS) subheading(s) listed in the “Scope of the Investigations,” in the appendix.

⁴¹ See Petition at Volume I (page 6 and Exhibit I-8); see also Second General Issues and AD Supplement at 1.

On February 9, 2026, Commerce released CBP data on imports of winter strawberries from Mexico under administrative protective order (APO) to all parties with access to information protected by APO and indicated that interested parties wishing to comment on CBP data and/or respondent selection must do so within three business days of the publication date of this notice in the Federal Register.⁴² Comments must be filed electronically using ACCESS. An electronically filed document must be received successfully in its entirety via ACCESS by 5:00 p.m. ET on the specified deadline. Commerce will not accept rebuttal comments regarding the CBP data or respondent selection.

⁴² See Memorandum, “Release of U.S. Customs and Border Protection Entry Data,” dated February 9, 2026.

Interested parties must submit applications for disclosure under APO in accordance with 19 CFR 351.305(b). Instructions for filing such applications may be found on Commerce's website at https://www.trade.gov/administrative-protective-orders.

Distribution of Copies of the Petition

In accordance with section 732(b)(3)(A) of the Act and 19 CFR 351.202(f), a copy of the public version of the Petition has been provided to the Government of Mexico via ACCESS. To the extent practicable, we will attempt to provide a copy of the public version of the Petition to each exporter named in the Petition, as provided under 19 CFR 351.203(c)(2).

ITC Notification

Commerce will notify the ITC of our initiation, as required by section 732(d) of the Act.

Preliminary Determination by the ITC

The ITC will preliminarily determine, within 25 days after the date on which the ITC received notice from Commerce of initiation of the investigation, whether there is a reasonable indication that imports of winter strawberries from Mexico are materially injuring, or threatening material injury to, a U.S. industry.⁴³ A negative ITC determination will result in the investigation being terminated.⁴⁴ Otherwise, this LTFV investigation will proceed according to statutory and regulatory time limits.

⁴³ See section 733(a) of the Act.

⁴⁴ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁵ and, if the information is submitted to rebut, clarify, or correct factual information already on the record, to provide an explanation identifying the information already on the record that the factual information seeks to rebut, clarify, or correct.⁴⁶ Time limits for the submission of factual information are addressed in 19 CFR 351.301, which provides specific time limits based on the type of factual information being submitted. Interested parties should review the regulations prior to submitting factual information in this investigation.

⁴⁵ See 19 CFR 351.301(b).

⁴⁶ See 19 CFR 351.301(b)(2).

Particular Market Situation Allegation

Section 773(e) of the Act addresses the concept of particular market situation (PMS) for purposes of constructed value, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), the submission must be filed in accordance with the requirements of 19 CFR 351.416(b), and Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁷ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.⁴⁸

⁴⁷ See 19 CFR 351.301; see also Extension of Time Limits; Final Rule, 78 FR 57790 (September 20, 2013 (Time Limits Final Rule), available at https://www.gpo.gov/fdsys/pkg/FR-2013-09-20/html/2013-22853.htm.

⁴⁸ See 19 CFR 351.302; see also, e.g., Time Limits Final Rule.

Certification Requirements

Any party submitting factual information in an AD or countervailing duty proceeding must certify to the accuracy and completeness of that information.⁴⁹ Parties must use the certification formats provided in 19 CFR 351.303(g).⁵⁰ Commerce intends to reject factual submissions if the submitting party does not comply with the applicable certification requirements.

⁴⁹ See section 782(b) of the Act.

⁵⁰ See Certification of Factual Information to Import Administration During Antidumping and Countervailing Duty Proceedings, 78 FR 42678 (July 17, 2023) (Final Rule). Additional information regarding the Final Rule is available at https://access.trade.gov/Resources/filing/index.html.

Notification to Interested Parties

Interested parties must submit applications for disclosure under APO in accordance with 19 CFR 351.305. Parties wishing to participate in this investigation should ensure that they meet the requirements of 19 CFR 351.103(d) (e.g., by filing the required letter of appearance). Note that Commerce has amended certain of its requirements pertaining to the service of documents in 19 CFR 351.303(f).⁵¹

⁵¹ See Administrative Protective Order, Service, and Other Procedures in Antidumping and Countervailing Duty Proceedings, 88 FR 67069 (September 29, 2023).

This notice is issued and published pursuant to sections 732(c)(2) and 777(i) of the Act, and 19 CFR 351.203(c).

Dated: February 9, 2026.
Christopher Abbott,
Deputy Assistant Secretary for Policy and Negotiations, performing the non-exclusive functions and duties of the Assistant Secretary for Enforcement and Compliance.

Appendix

Scope of the Investigation

The merchandise covered by this investigation is all fresh and chilled winter strawberries (winter strawberries) from Mexico harvested or entered during the period November 1 through March 31.

Winter strawberries may be stemmed or de-stemmed, whole or sliced, imported in bulk or loose form, or may be imported in individual containers packaged for retail sale. The scope of this investigation includes all winter strawberries, whether or not organic, regardless of production method, and irrespective of color, grade, shape, size, or packaging. Subject merchandise may be cleaned, coated (including chocolate covered or other coated confectionary items), washed, waxed, inspected, subjected to metal detection, and/or vacuum cooled prior to importation, including winter strawberries that undergo further processing in a third country.

Winter strawberries covered by this investigation are classified under the following subheadings of the Harmonized Tariff Schedule of the United States (HTSUS) and may enter under: 0810.10.4020; 0810.10.4040; 0810.10.4060; 0810.10.4080; and prior to 2024, 0810.10.4010 and 0810.10.4090. Although the HTSUS numbers are provided for convenience and customs purposes, the written description of the scope of the investigation is dispositive.

[FR Doc. 2026-02931 Filed 2-12-26; 8:45 am]

BILLING CODE 3510-DS-P